DEPARTMENT OF HOMELAND SECURITY

Federal Emergency Management Agency

[Docket ID FEMA-2021-0002; Internal Agency Docket No. FEMA-B-2123]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Alaska: Fairbanks North Star County. | Fairbanks North Star Borough (20-10-0898P). | The Honorable Bryce Ward, Mayor, Fairbanks North Star Borough, P.O. Box 71267, Fairbanks, AK 99709. | Community Planning Department, Juanita Helms Administration Center, 907 Terminal Street, Fairbanks, AK 99701. | https://msc.fema.gov/portal/advanceSearch. | Jul. 6, 2021 | 025009
Arizona:
Maricopa. | Unincorporated Areas of Maricopa County (21-09-0221P). | The Honorable Jack Sellers, Chairman, Board of Supervisors, Maricopa County, 301 West Jefferson Street, 10th Floor, Phoenix, AZ 85003. | Flood Control District of Maricopa County, 2801 West Durango Street, Phoenix, AZ 85009. | https://msc.fema.gov/portal/advanceSearch. | Jun. 18, 2021 | 040037
Mohave. | City of Bullhead City (20-09-1910P). | The Honorable Tom Brady, Mayor, City of Bullhead City, 2355 Trane Road, Bullhead City, AZ 86442. | Public Works Department, 2355 Trane Road, Bullhead City, AZ 86442. | https://msc.fema.gov/portal/advanceSearch. | Jul. 9, 2021 | 040125
Pima. | Town of Oro Valley (20-09-1981P). | The Honorable Joe Winfield, Mayor, Town of Oro Valley, Town Hall, 11000 North La Cañada Drive, Oro Valley, AZ 85737. | Planning and Zoning Department, 11000 North La Cañada Drive, Oro Valley, AZ 85737. | https://msc.fema.gov/portal/advanceSearch. | Jun. 23, 2021 | 040109
Pima. | Unincorporated Areas of Pima County (20-09-1981P). | The Honorable Sharon Bronson, Chairman, Board of Supervisors, Pima County, 130 West Congress Street, 11th Floor, Tucson, AZ 85701. | Pima County Flood Control District, 201 North Stone Avenue, 9th Floor, Tucson, AZ 85701. | https://msc.fema.gov/portal/advanceSearch. | Jun. 23, 2021 | 040073
Santa Cruz. | Unincorporated Areas of Santa Cruz County (20-09-0530P). | The Honorable Manuel Ruiz, Chairman, Board of Supervisors, Santa Cruz County, 2150 North Congress Drive #119, Nogales, AZ 85621. | Santa Cruz County Flood Control District, Gabilondo-Zehentner Building, 275 Rio Rico Drive, Rio Rico, AZ 85648. | https://msc.fema.gov/portal/advanceSearch. | May 5, 2021 | 040090
Santa Cruz. | Unincorporated Areas of Santa Cruz County (20-09-0547P). | The Honorable Manuel Ruiz, Chairman, Board of Supervisors, Santa Cruz County, 2150 North Congress Drive #119, Nogales, AZ 85621. | Santa Cruz County Flood Control District, Gabilondo-Zehentner Building, 275 Rio Rico Drive, Rio Rico, AZ 85648. | https://msc.fema.gov/portal/advanceSearch. | May 5, 2021 | 040090
California:
Fresno. | City of Clovis (20-09-2182P). | The Honorable Drew Bessinger, Mayor, City of Clovis, 1033 5th Street, Clovis, CA 93612. | City Clerk's Office, Civic Center, 1033 5th Street, Clovis, CA 93612. | https://msc.fema.gov/portal/advanceSearch. | Jun. 21, 2021 | 060044
Nevada. | City of Grass Valley (20-09-0976P). | The Honorable Ben Aguilar, Mayor, City of Grass Valley, 125 East Main Street, Grass Valley, CA 95945. | Public Works Department, 125 East Main Street, Grass Valley, CA 95945. | https://msc.fema.gov/portal/advanceSearch. | Apr. 30, 2021 | 060211
Riverside. | City of Banning (20-09-2180P). | The Honorable Colleen Wallace, Mayor, City of Banning, 99 East Ramsey Street, Banning, CA 92220. | Public Works Department, 99 East Ramsey Street, Banning, CA 92220. | https://msc.fema.gov/portal/advanceSearch. | May 28, 2021 | 060246
San Diego. | City of San Diego (20-09-1465P). | The Honorable Todd Gloria, Mayor, City of San Diego, 202 C Street, 11th Floor, San Diego, CA 92101. | Development Services Department, 1222 1st Avenue, MS 301, San Diego, CA 92101. | https://msc.fema.gov/portal/advanceSearch. | Jul. 1, 2021 | 060295
Idaho:
Bonneville. | City of Ammon (20-10-0225P). | The Honorable Sean Coletti, Mayor, City of Ammon, City Hall, 2135 South Ammon Road, Ammon, ID 83406. | City Hall, 2135 South Ammon Road, Ammon, ID 83406. | https://msc.fema.gov/portal/advanceSearch. | Oct. 9, 2020 | 160028
Bonneville. | Unincorporated Areas of Bonneville County (20-10-0225P). | The Honorable Roger Christensen, Chairman, Bonneville County, 605 North Capital Avenue, Idaho Falls, ID 83402. | Bonneville County Courthouse, 605 North Capital Avenue, Idaho Falls, ID 83402. | https://msc.fema.gov/portal/advanceSearch. | Oct. 9, 2020 | 160027
Illinois:
Champaign. | City of Champaign (20-05-2709P). | The Honorable Deborah Frank Feinen, Mayor, City of Champaign, 102 North Neil Street, Champaign, IL 61820. | City Hall, 102 North Neil Street, Champaign, IL 61820. | https://msc.fema.gov/portal/advanceSearch. | Jul. 15, 2021 | 170026
DuPage. | Village of Lisle (20-05-2443P). | The Honorable Christopher Pecak, Mayor, Village of Lisle, 925 Burlington Avenue, Lisle, IL 60532. | Village Hall, 925 Burlington Avenue, Lisle, IL 60532. | https://msc.fema.gov/portal/advanceSearch. | Jul. 15, 2021 | 170211
Livingston. | Unincorporated Areas of Livingston County (20-05-1894P). | The Honorable Kathy Arbogast, County Board Chair Livingston County, 112 West Madison Street, Pontiac, IL 61764. | Livingston County Regional Planning Commission, 110 West Water Street, Suite 3, Pontiac, IL 61764. | https://msc.fema.gov/portal/advanceSearch. | Jul. 15, 2021 | 170929
Livingston. | Village of Forrest (20-05-1894P). | The Honorable Lewis Breeden, Village President, Village of Forrest, 323 South Williams, Forrest, IL 61741. | Village Hall, 323 South Williams, Forrest, IL 61741. | https://msc.fema.gov/portal/advanceSearch. | Jul. 15, 2021 | 170425
Will. | Village of Monee (20-05-3654P). | The Honorable James Popp, Mayor, Village of Monee, 5130 West Court Street, Monee, IL 60449. | Village Hall, 5130 West Court Street, Monee, IL 60449. | https://msc.fema.gov/portal/advanceSearch. | Jun. 24, 2021 | 171029
Kansas:
Johnson. | City of Olathe (20-07-1546P). | The Honorable John Bacon, Mayor, City of Olathe, P.O. Box 768, Olathe, KS 66051. | City Hall, Planning Office, 100 West Santa Fe Drive, Olathe, KS 66061. | https://msc.fema.gov/portal/advanceSearch. | Jun. 17, 2021 | 200173
Sedgwick: | City of Wichita (19-07-1328P). | The Honorable Brandon Whipple, Mayor, City of Wichita, City Hall, 455 North Main Street, 1st Floor, Wichita, KS 67202. | Office of Storm Water Management, 455 North Main Street 8th Floor, Wichita, KS 67202. | https://msc.fema.gov/portal/advanceSearch. | Jun. 24, 2021 | 200328
Sedgwick: | Unincorporated Areas of Sedgwick County (19-07-1328P). | Mr. Pete Meitzner, Chairman, 1st District Commissioner, Sedgwick County, 525 North Main Street, Suite 320, Wichita, KS 67203. | Sedgwick County, Metropolitan Area Building and Construction Department, 1144 South Seneca Street, Wichita, KS 67213. | https://msc.fema.gov/portal/advanceSearch. | Jun. 24, 2021 | 200321
Minnesota: Anoka. | City of Blaine (20-05-3678P). | The Honorable Tim Sanders, Mayor, City of Blaine, City Hall, 10801 Town Square Drive Northeast, Blaine, MN 55449. | City Hall, 10801 Town Square Drive Northeast, Blaine, MN 55449. | https://msc.fema.gov/portal/advanceSearch. | Jun. 21, 2021 | 270007
Nebraska: Lancaster. | City of Lincoln (20-07-1451P). | The Honorable Leirion Gaylor Baird, Mayor, City of Lincoln, 555 South 10th Street, Lincoln, NE 68508. | Building & Safety Department, 555 South 10th Street, Lincoln, NE 68508. | https://msc.fema.gov/portal/advanceSearch. | Jul. 5, 2021 | 315273
New Jersey: Morris. | Borough of Lincoln Park (21-02-0107P). | The Honorable David A. Runfeldt, Mayor, Borough of Lincoln Park, 34 Chapel Hill Road, Lincoln Park, NJ 07035. | Borough Building Department, 34 Chapell Hill Road, Lincoln Park, NJ 07035. | https://msc.fema.gov/portal/advanceSearch. | Jun. 29, 2021 | 345300
New York: Westchester. | Village of Mamaroneck (20-02-1481P). | The Honorable Thomas A. Murphy, Mayor, Village of Mamaroneck, 123 Mamaroneck Avenue, Mamaroneck, NY 10543. | Building Inspector, The Regatta Building, 123 Mamaroneck Avenue, Mamaroneck, NY 10543. | https://msc.fema.gov/portal/advanceSearch. | Aug. 24, 2021 | 360916
Oregon: Lane. | City of Cottage Grove (20-10-0681P). | The Honorable Jeff Gowing, Mayor, City of Cottage Grove, 337 North 9th Street, Cottage Grove, OR 97424. | City Hall, 400 East Main Street, Cottage Grove, OR 97424. | https://msc.fema.gov/portal/advanceSearch. | Jun. 25, 2021 | 410120
Texas:
Dallas. | City of Grand Prairie (20-06-2268P). | The Honorable Ron Jensen, Mayor, City of Grand Prairie, P.O. Box 534045, Grand Prairie, TX 75053. | Community Development Center, 206 West Church Street, Grand Prairie, TX 75050. | https://msc.fema.gov/portal/advanceSearch. | Jun. 21, 2021 | 485472
Dallas. | City of Irving (20-06-2268P). | The Honorable Rick Stopfer, Mayor, City of Irving, 825 West Irving Boulevard, Irving, TX 75060. | Capital Improvement Development Program, 825 West Irving Boulevard, Irving, TX 75060. | https://msc.fema.gov/portal/advanceSearch. | Jun. 21, 2021 | 480180
Wisconsin: Waukesha. | Village of Sussex (20-05-1875P). | Mr. Anthony LeDonne, Village President, Village of Sussex, Sussex Civic Center, N64 W23760 Main Street, Sussex, WI 53089. | Village Hall, N64 W23760 Main Street, Sussex, WI 53089. | https://msc.fema.gov/portal/advanceSearch. | Mar. 18, 2021 | 550490

[FR Doc. 2021-08694 Filed 4-26-21; 8:45 am]

BILLING CODE 9110-12-P